DEPARTMENT OF STATE

[Public Notice: 11330]

Notice of Department of State Sanctions Actions on Hong Kong Normalization

SUMMARY: The Secretary of State has imposed sanctions on fourteen individuals pursuant to Executive Order 13936, the President's Executive Order on Hong Kong Normalization.

DATES: The Secretary of State's determination regarding the fourteen individuals identified in the SUPPLEMENTARY INFORMATION section was effective on December 7, 2020.

FOR FURTHER INFORMATION CONTACT: Taylor Ruggles, Director, Office of Economic Sanctions Policy and Implementation, Bureau of Economic and Business Affairs, Department of State, Washington, DC 20520, tel.: (202) 647-7677, email: RugglesTV@state.gov.

SUPPLEMENTARY INFORMATION: Pursuant to Section 4(a)(iii)(A) of E.O. 13936 the Secretary of State, in consultation with the Secretary of the Treasury, or the Secretary of the Treasury, in consultation with the Secretary of State may authorize blocking of all property or interests in property that are in the United States, that hereafter come within the United States, or that are in or hereafter come within the possession or control of any United States person, of any foreign person upon determining that the person is or has been a leader or official of any entity, including any government entity, that has engaged in, or whose members have engaged in, developing, adopting, or implementing the Law of the People's Republic of China on Safeguarding National Security in the Hong Kong Administrative Region (the “National Security Law”).

The Secretary of State has determined, pursuant to section 4(a)(iii)(A) of E.O. 13936, that Wang Chen, Cao Jianming, Zhang Chunxian, Shen Yueyue, Ji Bingxuan, Arken Imirbaki, Wan Exiang, Chen Du, Wang Dongming, Padma Choling, Ding Zhongli, Hao Mingjin, Cai Dafeng, and Wu Weihua, are or have been leaders or officials of an entity, including any government entity, that has engaged in, or whose members have engaged in, developing, adopting, or implementing, the National Security Law, and has approved the Department of Treasury adding them to the Specially Designated and Blocked Persons List (SDN List). All property and interests in property subject to U.S. jurisdiction of these individuals are blocked, and U.S. persons are generally prohibited from engaging in transactions with them.

Peter Haas,
Principal Deputy Assistant Secretary, Bureau of Economic and Business Affairs, Department of State.

[FR Doc. 2021-01276 Filed 1-21-21; 8:45 am]

BILLING CODE 4710-AE-P